DEPARTMENT OF ENERGY

Federal Energy Regulatory Commission

[Docket No. RP00-135-001]

CNG Transmission Corporation; Notice of Proposed Changes in FERC Gas Tariff

February 9, 2000.

Take notice that on February 4, 2000, CNG Transmission Corporation (CNG) tendered for filing as part of its FERC Gas Tariff, Second Revised Volume No. 1, the following tariff sheets, with an effective date of January 10, 2000.

Substitute Original Sheet No. 397A

Substitute Original Sheet No. 397B

Substitute Original Sheet No. 397C

CNG states that the purpose of this filing is to comply with the Commission's January 7, 2000 letter order in this proceeding. Pursuant to the order, the Commission accepted CNG's tariff filing, effective January 10, 2000, subject to refiling the tariff sheets in conformity with the Commission's letter order.

CNG states that copies of its letter of transmittal and enclosures are being served upon its customers and to interested state commissions.

Any person desiring to protest this filing should file a protest with the Federal Energy Regulatory Commission, 888 First Street, NE, Washington, DC 20426, in accordance with Section 385.211 of the Commission's Rules and Regulations. All such protests must be filed as provided in Section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

Linwood A. Watson, Jr.,
Acting Secretary.

[FR Doc. 00-3467 Filed 2-14-00; 8:45 am]

BILLING CODE 6717-01-M